DEPARTMENT OF ENERGY

Federal Energy Regulatory Commission

Sunshine Act Meeting Notice

DATES: January 15, 2015.

The following notice of meeting is published pursuant to section 3(a) of the government in the Sunshine Act (Pub. L. 94-409), 5 U.S.C. 552b:

AGENCY HOLDING MEETING: Federal Energy Regulatory Commission.

DATE AND TIME: January 22, 2015 10:00 a.m.

PLACE: Room 2C, 888 First Street NE., Washington, DC 20426.

STATUS: OPEN.

MATTERS TO BE CONSIDERED: Agenda.

* NOTE—Items listed on the agenda may be deleted without further notice.

CONTACT PERSON FOR MORE INFORMATION: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

1012th—Meeting, Regular Meeting
[January 22, 2015, 10:00 am]
Item No. | Docket No. | Company
ADMINISTRATIVE
A-1 | AD02-1-000 | Agency Business Matters.
A-2 | AD02-7-000 | Customer Matters, Reliability, Security and Market Operations.
A-3 | AD14-3-000 | Coordination Across the PJM/MISO Seam.
ELECTRIC
E-1 | ER13-1922-000 | Duke Energy Carolinas, LLC.
|  | Duke Energy Florida, Inc.
| ER13-1929-000 | Florida Power & Light Company.
| ER13-1932-000 | Tampa Electric Company.
| NJ13-11-000 | Orlando Utilities Commission.
| ER13-1928-000 | Duke Energy Carolinas, LLC.
|  | Duke Energy Progress, Inc.
| ER13-1930-000 | Louisville Gas and Electric Company.
| ER13-1940-000 | Ohio Valley Electric Corporation.
| ER13-1941-000 | Alabama Power Company.
| ER13-1935-000 | South Carolina Electric & Gas Company.
E-2 | ER13-1923-000 | Midcontinent Independent System Operator, Inc.
| ER13-1928-000 | Duke Energy Carolinas, LLC
|  | Duke Energy Progress, Inc.
| ER13-1930-000 | Louisville Gas and Electric Company.
| ER13-1940-000 | Ohio Valley Electric Corporation.
| ER13-1941-000 | Alabama Power Company.
| ER13-1945-000 | Midcontinent Independent System Operator, Inc.
| ER13-1955-000 | Entergy Services, Inc.
| ER13-1956-000 | Cleco Power LLC.
| (not consolidated)
E-3 | ER13-1927-000 | PJM Interconnection, L.L.C.
|  | Duquesne Light Company.
| ER13-1936-000 | PJM Interconnection, L.L.C.
| ER13-1928-000 | Duke Energy Carolinas, LLC.
|  | Duke Energy Progress, Inc.
| ER13-1930-000 | Louisville Gas and Electric Company.
| ER13-1940-000 | Ohio Valley Electric Corporation.
| ER13-1941-000 | Alabama Power Company.
E-4 | PL15-3-000 | Policy Statement on Hold Harmless Commitments.
E-5 | RM14-8-000 | Protection System Maintenance Reliability Standard.
E-6 | OMITTED
E-7 | EL15-6-000 | PáTu Wind Farm LLC v. Portland General Electric Company.
| QF06-17-002 | PáTu Wind Farm, LLC.
E-8 | ER13-1864-000 | Southwest Power Pool, Inc.
E-9 | ER13-2376-002 | Midcontinent Independent System Operator, Inc.
|  | Northern Indiana Public Service Company.
E-10 | ER13-2375-002 | Midcontinent Independent System Operator, Inc.
|  | Southern Indiana Gas & Electric Company.
E-11 | ER13-2379-001 | Midcontinent Independent System Operator, Inc.
| ER13-2376-001 | Midcontinent Independent System Operator, Inc.
|  | Northern Indiana Public Service Company.
| ER13-2375-001 | Midcontinent Independent System Operator, Inc.
|  | Southern Indiana Gas & Electric Company.
| EL12-35-002 | Midwest Independent Transmission System Operator, Inc.
|  | ALLETE, Inc.
|  | Ameren Illinois Company.
|  | Ameren Transmission Company of Illinois.
|  | American Transmission Company, LLC.
|  | Big Rivers Electric Corporation.
|  | Board of Water, Electric and Communications.
|  | Trustees of the City of Muscatine, Iowa.
|  | Central Minnesota Municipal Power Agency.
|  | City of Columbia, Missouri, Water & Light Company.
|  | City Water, Light & Power (Springfield, Illinois).
|  | Duke Energy Indiana, Inc.
|  | Dairyland Power Cooperative.
|  | Entergy Services, Inc.
|  | Great River Energy.
|  | Hoosier Energy Rural Electric Cooperative, Inc.
|  | Indiana Municipal Power Agency.
|  | Indianapolis Power & Light Company.
|  | International Transmission Company.
|  | ITC Midwest, LLC.
|  | Michigan Electric Transmission Company, LLC.
|  | Michigan Public Power Agency.
|  | Michigan South Central Power Agency.
|  | MidAmerican Energy Company.
|  | Missouri River Energy Services.
|  | Montana-Dakota Utilities Company.
|  | Montezuma Municipal Light & Power.
|  | Municipal Electric Utility of the City of Cedar Falls, Iowa.
|  | Muscatine Power and Water.
|  | Northern States Power Company, a Minnesota Corporation.
|  | Northern States Power Company, a Wisconsin Corporation.
|  | Northwestern Wisconsin Electric Company.
|  | Otter Tail Power Company.
|  | Southern Illinois Power Cooperative.
|  | Southern Minnesota Municipal Power Agency.
|  | Tipton Municipal Utilities.
|  | Wabash Valley Power Association, Inc.
|  | Wolverine Power Supply Cooperative, Inc.
E-12 | ER13-2379-002 | Midcontinent Independent System Operator, Inc.
| ER13-2379-003
E-13 | ER10-1791-003 | Midwest Independent Transmission System Operator, Inc.
E-14 | ER14-1681-001 | Illinois Municipal Electric Agency.
E-15 | ER14—503-002 | PJM Interconnection, L.L.C.
E-16 | ER13-107-006 | South Carolina Gas & Electric Company.
| ER13-107-007
E-17 | ER13-187-006 | Midwest Independent Transmission System Operator, Inc. and the MISO Transmission Owners.
| ER13-187-007
| ER13-187-008
| ER13-187-009
| ER13-186-004 | Midwest Independent Transmission System Operator, Inc. and the MISO Transmission Owners.
| ER13-89-003 | MidAmerican Energy Company and Midwest Independent Transmission System Operator, Inc.
| ER13-84-002 | Cleco Power LLC.
| ER13-95-002 | Entergy Arkansas, Inc.
E-18 | ER13-198-003 | PJM Interconnection, L.L.C.
| ER13-198-004
| ER13-195-002 | Indicated PJM Transmission Owners.
| ER13-90-003 | PJM Interconnection, L.L.C.
|  | Public Service Electric and Gas Company.
| ER13-90-004 | PJM Interconnection, L.L.C.
|  | Pennsylvania Electric Company.
E-19 | OMITTED
E-20 | EL14-83-000 | NM Neptune, LLC.
GAS
G-1 | RP15-23-001 | Transwestern Pipeline Company, LLC.
HYDRO
H-1 | P-14512-001 | KC Pittsfield, LLC.
H-2 | P-14612-001 | New Summit Hydro, LLC.
H-3 | P-2610-010 | Northern States Power Company.
H-4 | P-14613-001 | Green Energy Storage Corporation.

Kimberly D. Bose,
Secretary.

A free webcast of this event is available through www.ferc.gov. Anyone with Internet access who desires to view this event can do so by navigating to www.ferc.gov' s Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. 2015-00953 Filed 1-16-15; 11:15 am]

BILLING CODE P